DEPARTMENT OF THE INTERIOR

Bureau of Land Management

[MT-926-05-1910-BJ-5REO]

Montana: Filing of Plat of Survey

AGENCY: Bureau of Land Management, Montana State Office, Interior.

ACTION: Notice of Filing of Plat of Survey.

SUMMARY: The Bureau of Land Management (BLM) will file the plat of survey of the lands described below in the BLM Montana State Office, Billings, Montana, (30) days from the date of publication in the Federal Register.

FOR FURTHER INFORMATION CONTACT: Marvin Montoya, Cadastral Surveyor, Branch of Cadastral Survey, Bureau of Land Management, 5001 Southgate Drive, P.O. Box 36800, Billings, Montana 59107-6800, telephone (406) 896-5124 or (406) 896-5009.

SUPPLEMENTARY INFORMATION: This survey was executed at the request of the Fort Peck Agency, through the Rocky Mountain Regional Director, Bureau of Indian Affairs and was necessary to determine Trust and Tribal lands. The lands we surveyed are:

Principal Meridian, Montana

T. 26 N., R. 45 E.

The plat, in 3 sheets, representing the dependent resurvey of portions of the west boundary, subdivisional lines, the adjusted original meanders of the former left bank of the Missouri River, downstream through section 7, and the subdivision of section 7, subdivided section 7, and surveyed the new meanders of the present left bank of the Missouri River, downstream through section 7, and certain division of accretion lines in section 7, Township 26 North, Range 45 East, Principal Meridian, Montana, was accepted May 20, 2005.

We will place a copy of the plat, in 3 sheets, and related field notes we described in the open files. They will be available to the public as a matter of information.

If BLM receives a protest against this survey, as shown on this plat, in 3 sheets, prior to the date of the official filing, we will stay the filing pending our consideration of the protest.

We will not officially file this plat, in 3 sheets, until the day after we have accepted or dismissed all protests and they have become final, including decisions or appeals.

Dated: May 24, 2005.
Heidi L. Pfosch,
Acting Chief Cadastral Surveyor, Division of Resources.

[FR Doc. 05-10861 Filed 5-31-05; 8:45 am]

BILLING CODE 4310-$$-P